DEPARTMENT OF COMMERCE

Census Bureau

2008 Coverage Followup Telephone Operation

ACTION: Proposed information collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 23, 2007.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Frank Vitrano, U.S. Census Bureau, Room 3H174, Washington, DC 20233-9200, 301-763-3961 (or via e-mail at frank.a.vitrano@census.gov).

SUPPLEMENTARY INFORMATION

I. Abstract

The 2008 Census Dress Rehearsal is the final step in the decennial cycle of research and testing leading up to the implementation of the 2010 Census. The 2008 Census Dress Rehearsal will provide an opportunity to see how well the Census Bureau integrates the various operations and procedures planned for the 2010 Census under as close to census-like conditions as possible.

In order to meet our constitutional and legislative mandates, we must implement a re-engineered 2010 Census that is cost-effective, improves coverage, and reduces operational risk. Achieving these strategic goals requires an iterative series of tests to provide an opportunity to evaluate new or improved question wording, methodology, technology, and questionnaire design.

The Census Bureau previously completed three related studies designed to evaluate the efficacy of modified procedures for improving coverage (how well the Census Bureau counts people and housing units in the census) of the population and housing: (1) The 2004 Census Test Coverage Research Followup (OMB Approval Number 0607-0910; (2) the 2005 National Census Test Coverage Followup (OMB Approval Number 0607-0916 and (3) the 2006 Census Test Coverage Followup (OMB Approval Number 0607-0923.)

In support of the Census Bureau's goals, the 2008 Coverage Followup (CFU) telephone operation will serve to clarify initial enumeration responses in an effort to improve within household coverage by identifying erroneous enumerations and omissions. Historically, the decennial census has been affected by undercounts that affect certain demographic groups (e.g. babies and minorities), and people in certain living situations, such as renters who move often and people whose residence is complicated or ambiguous.

Coverage interviews in the decennial censuses traditionally involve a second interview with the respondent to determine if changes should be made to their household roster as reported on their initial census return. The questions in the CFU interview attempt to determine if people were missed, and/or counted incorrectly. The corrections to the roster are made, if necessary, based on the 2008 Dress Rehearsal Residence Rules.

The 2008 CFU telephone operation will be conducted May 1, 2008 through July 25, 2008.

II. Method of Collection

The CFU telephone operation will be administered using computer-assisted telephone interviews (CATI). Approximately 66,000 households will be included in the 2008 CFU telephone universe. This universe is selected based on the following criteria:

• Initial census housing unit returns that responded “yes” to either coverage question;

• Initial census returns that have a count discrepancy between the reported household population count and the actual number of persons recorded on the census form;

• Initial census returns containing more than six persons;

• Initial returns that are matched against an administrative records database to identify potential undercount; and

• Initial census returns that are computer matched to determine possible duplicate person links.

The 2008 CFU telephone operation will be conducted in the two 2008 Census Dress Rehearsal sites: San Joaquin County, California and South Central North Carolina, including Fayetteville and nine surrounding counties (Chatham, Cumberland, Harnett, Hoke, Lee, Montgomery, Moore, Richmond and Scotland).

The CFU interview includes probes about:

• Types of missing people,

• Where college students live,

• Where children in custody arrangements spend most of their time,

• Where those who vacation spend most of their time,

• If anyone else in the household stays anywhere else any part of the time, and

• If anyone stayed in a facility where groups of people stay.

When anyone is identified as potentially counted or omitted in error, we then ask questions to establish the appropriate census residence of that person according to the residence rules in effect for the 2008 Census Dress Rehearsal.

We will contact respondents using telephone numbers provided by respondents on the initial census questionnaire. These interviews will be conducted at a commercial call center using CATI. The CATI instrument will be in English only. We will not conduct field interviews during this test, so when telephone interviews are unsuccessful, the case will be classified as a non-interview.

III. Data

OMB Number: None.

Form Number: None.

Type of Review: Regular submission.

Affected Public: Individuals or households.

Estimated Number of Respondents: 66,000 housing units.

Estimated Time Per Response: 10 minutes.

Estimated Total Annual Burden Hours: 11,000.

Estimated Total Annual Cost: $0.

Respondent's Obligation: Mandatory.

Legal Authority: Title 13 of the United States Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 17, 2007.
Gwellnar Banks,
Management Analyst, Office of the Chief Information Officer.

[FR Doc. E7-9870 Filed 5-22-07; 8:45 am]

BILLING CODE 3510-07-P